DEPARTMENT OF TRANSPORTATION

Federal Aviation Administration

14 CFR Part 71

[Docket No. FAA-2006-25763; Airspace Docket No. 06-AAL-26]

Revision of Class E Airspace; Kodiak, AK

AGENCY: Federal Aviation Administration (FAA), DOT.

ACTION: Final rule.

SUMMARY: This action revises Class E airspace at Kodiak, AK to provide adequate controlled airspace to contain aircraft executing Standard Instrument Approach Procedures (SIAPs). The FAA Instrument Flight Procedures Production and Maintenance Branch had noticed that a section of airspace north of Kodiak, AK, needed to be converted to controlled airspace. This rule addresses this issue and results in the revision of Class E airspace upward from 3,500 feet (ft.) above the surface at Kodiak, AK.

DATES: Effective Date: 0901 UTC, March 15, 2007. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Thursday, October 5, 2006, the FAA proposed to amend part 71 of the Federal Aviation Regulations (14 CFR part 71) to revise Class E airspace upward from 3,500 ft. above the surface at Kodiak, AK (71 FR 58761). The action was proposed in order to create Class E airspace sufficient in size to contain aircraft while executing SIAPs for the Kodiak Airport. While conducting a review of Kodiak's instrument procedures, the FAA discovered that a small section (about 10 square miles) of uncontrolled airspace north of Kodiak, AK needed to be converted to controlled airspace. Class E controlled airspace extending upward from 3,500 ft. above the surface in the Kodiak Airport area is revised by this action.

Interested parties were invited to participate in this rulemaking proceeding by submitting written comments on the proposal to the FAA. No public comments have been received; thus the rule is adopted as proposed.

The area will be depicted on aeronautical charts for pilot reference. The coordinates for this airspace docket are based on North American Datum 83. The Class E airspace areas designated as 700/1,200 ft. transition areas are published in paragraph 6005 of FAA Order 7400.9P, Airspace Designations and Reporting Points, dated September 1, 2006, and effective September 15, 2006, which is incorporated by reference in 14 CFR 71.1. The Class E airspace designations listed in this document will be published subsequently in the Order.

The Rule

This amendment to 14 CFR part 71 revises Class E airspace at the Kodiak Airport, Alaska. This Class E airspace is revised to accommodate aircraft executing SIAPs, and will be depicted on aeronautical charts for pilot reference. The intended effect of this rule is to provide adequate controlled airspace for IFR operations at the Kodiak Airport, Kodiak, Alaska.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Kodiak Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

* * * * *

Paragraph 6005 Class E Airspace Extending Upward From 700 Feet or More Above the Surface of the Earth

* * * * *

AAL AK E5 Kodiak, AK [Revised]

Kodiak Airport, AK

(Lat. 57°45′00″ N., long. 152°29′38″ W.)

Kodiak VORTAC

(Lat. 57°46′30″ N., long. 152°20′23″ W.)

Kodiak Localizer

(Lat. 57°45′08″ N., long. 152°31′15″ W.)

That airspace extending upward from 700 feet above the surface within a 6.8-mile radius of the Kodiak Airport, AK, and within 5 miles south and 9 miles north of the 070° radial of the Kodiak VORTAC extending from the 6.8-mile radius to 17 miles northeast of the Kodiak VORTAC, and within 8 miles north and 4 miles south of the Kodiak Localizer front course extending from 6.8-mile radius to 20.3 miles east of the Kodiak Airport, AK, and within 14 miles of the Kodiak VORTAC extending from the 358° radial clockwise to the 107° radial; and that airspace extending upward from 1,200 feet above the surface within lat. 57°57′06″ N., long. 152°45′ 00″ W. to lat. 57°55′00″ N., long. 152°28′00″ W. to lat. 57°53′00″ N., long. 152°27′06″ W. to point of beginning and within 27 miles of the Kodiak VORTAC extending from the 023° radial clockwise to the 088° radial and within 8 miles north and 5 miles south of the Kodiak Localizer front course extending from the Kodiak Airport, AK, to 32 miles east of the Kodiak Airport; AK; and that airspace extending upward from 3,500 feet above the surface within 4 miles either side of the 012° radial of the Kodiak VORTAC to 40 miles north of the Kodiak VORTAC.

* * * * *

Issued in Anchorage, AK, on December 8, 2006.
Anthony M. Wylie,
Manager, Alaska Flight Service Information Office.

[FR Doc. E6-21535 Filed 12-18-06; 8:45 am]

BILLING CODE 4910-13-P